DEPARTMENT OF HEALTH AND HUMAN SERVICES

Administration for Children and Families

Proposed Information Collection Activity; Comment Request

Proposed Projects

Title: ACF Uniform Project Description.

OMB No.: 0970-0139.

Description: The Administration for Children and Families (ACF) has more than 40 discretionary grant programs. The proposed information collection form would be a uniform discretionary application form eligible for use by grant applicants to submit project information in response to ACF program announcements. ACF would use this information, along with other OMB-approved information collections, to evaluate and rank applicants and protect the integrity of the grantee selection process. All ACF discretionary grant programs would be eligible but not required to use this application form. The application consists of general information and instructions; the Standard Form 424 series that requests basic information, budget information and assurances; the Project Description requesting the applicant to describe how these objectives will be achieved; along with assurances and certifications. Guidance for the content of information requested in the Project Description is found in OMB Circular A-102 and 45 CFR Part 74.

Respondents: Applicants for ACF Discretionary Grant Programs.

Annual Burden Estimates
Instrument | Number of respondents | Number of responses per respondent | Average burden hours per response | Total burden hours
UPD | 11,588 | 1 | 40 | 463,520

Estimated Total Annual Burden Hours: 463,520.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 20, 2009.
Janean Chambers,
Reports Clearance Officer.

[FR Doc. E9-12093 Filed 5-22-09; 8:45 am]

BILLING CODE 4184-01-P